DEPARTMENT OF STATE

[Public Notice: 6297]

30-Day Notice of Proposed Information Collection: DS-7646, U.S. National Commission for UNESCO Laura W. Bush Traveling Fellowship, OMB 1405-0180

ACTION: Notice of request for public comment and submission to OMB of proposed collection of information.

SUMMARY: The Department of State has submitted the following information collection request to the Office of Management and Budget (OMB) for approval in accordance with the Paperwork Reduction Act of 1995.

• Title of Information Collection: The U.S. National Commission for UNESCO Laura W. Bush Traveling Fellowship.

• OMB Control Number: 1405-0180.

• Type of Request: Renewal.

• Originating Office: Bureau of International Organization Affairs, Office of UNESCO Affairs, Executive Secretariat U.S. National Commission for UNESCO (IO/UNESCO).

• Form Number: DS-7646.

• Respondents: U.S. college and university students applying for fellowship.

• Estimated Number of Respondents: 100.

• Estimated Number of Responses: 100.

• Average Hours Per Response: 10.

• Total Estimated Burden: 1000 hours.

• Frequency: On occasion.

• Obligation to respond: Required to Obtain or Retain a Benefit.

DATES: Submit comments to the Office of Management and Budget (OMB) for up to 30 days from the date that this notice is published in the Federal Register .

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: (202) 395-6974.

FOR FURTHER INFORMATION CONTACT: You may obtain copies of the proposed information collection, details regarding applying for this privately funded fellowship, and supporting documents from Alexander Zemek, Deputy Executive Director, U.S. National Commission for UNESCO, who may be reached at (202) 663-0026 or at zemekaf@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

Fellowship applicants, U.S. citizen students at U.S. colleges and universities, will submit descriptions of self-designed proposals for brief travel abroad to conduct work that is consistent with UNESCO's substantive mandate to contribute to peace and security by promoting collaboration among nations through education, the sciences, culture, and communications in order to further universal respect for justice, for the rule of law and for the human rights and fundamental freedoms which are affirmed for the peoples of the world, without distinction of race, sex, language or religion, by the Charter of the United Nations. The fellowship is funded through private donations. The information will be reviewed for the purpose of identifying the most meritorious proposals, as measured against the published evaluation criteria.

Methodology:

The U.S. Department of State, Bureau of International Organization Affairs, Office of UNESCO Affairs, Executive Secretariat U.S. National Commission for UNESCO (IO/UNESCO) will collect this information via electronic submission.

Dated: July 2, 2008.
Alexander F. Zemek,
Deputy Executive Director, U.S. National Commission for UNESCO, Bureau of International Organization Affairs, Department of State.

[FR Doc. E8-16246 Filed 7-15-08; 8:45 am]

BILLING CODE 4710-19-P